DEPARTMENT OF EDUCATION

Privacy Act of 1974; Computer Matching Program

AGENCY: Department of Education.

ACTION: Notice—Computer matching agreement between the Department of Education and the Department of Defense.

SUMMARY: This document provides notice of the continuation of the computer matching program between the Departments of Education (ED) and Defense (DoD). The continuation is effective on the date specified in paragraph 5.

SUPPLEMENTARY INFORMATION: Section 473(b) of the Higher Education Act of 1965, as amended (HEA) (20 U.S.C. 1087mm(b)), requires the Secretary of Defense to provide the Secretary of Education with information to identify children whose parent or guardian was a member of the Armed Forces of the United States and died as a result of performing military service in Iraq or Afghanistan after September 11, 2001. Beginning with the 2009-2010 Award Year, a qualifying student may be eligible for a greater amount of Title IV, HEA program assistance. The qualifying student must have been age 24 or less at the time of the parent or guardian's death or, if older than 24, enrolled part-time or full-time in an institution of higher education at the time of the parent or guardian's death. Beginning July 1, 2010, students who are otherwise qualified children of deceased U.S. military who meet the requirements of section 420R of the HEA (20 U.S.C. 1070h) may also be eligible for higher amounts of Title IV, HEA program assistance.

To ensure that eligible students receive the maximum allowable amount of Title IV, HEA program assistance, the Department of Defense and the Department of Education created a computer matching program.

The purpose of this notice is to announce the continuation of the computer matching program and to provide certain required information concerning the computer matching program.

We provide this notice in accordance with the Privacy Act of 1974 (5 U.S.C. 552a), as amended by the Computer Matching and Privacy Protection Act of 1988 (Pub. L. 100-503) and the Computer Matching and Privacy Protection Amendments of 1990 (Pub. L. 101-508) (Privacy Act); the Office of Management and Budget (OMB) Guidelines on the Conduct of Matching Programs (54 FR 25818, June 19, 1989); and OMB Circular A-130:

1. Names of Participating Agencies

The Department of Education (recipient agency) and the Department of Defense (source agency).

2. Purpose of the Match

The purpose of this matching program is to ensure that the requirements of sections 420R and 473(b) of the HEA (20 U.S.C. 1070h and 20 U.S.C. 1087mm(b)) are fulfilled.

DoD is the lead contact agency for information related to benefits for military service dependents and, as such, provides these data to ED. ED (recipient agency) seeks access to the information contained in the DoD (source agency) Defense Manpower Data Center (DMDC) system and the Defense Enrollment Eligibility Reporting System (DEERS).

3. Authority for Conducting the Matching Program

Under sections 420R and 473(b) of the HEA (20 U.S.C. 1070h and 20 U.S.C. 1087mm(b)), ED must identify the children of military personnel who have died as a result of their military service in Iraq or Afghanistan after September 11, 2001, to determine if the child is eligible for increased amounts of Title IV, HEA program assistance.

DoD and ED have determined that using DoD data provided to ED for matching against ED's Federal Student Aid Application File (18-11-01) is the only practical method that the agencies can use to meet the statutory requirements of the HEA.

4. Categories of Records and Individuals Covered by the Match

DoD will submit for verification records from its DMDC and DEERS data bases to ED's Central Processing System files (Federal Student Aid Application File (18-11-01)), the Social Security number (SSN) and other identifying information for each qualifying dependent record. ED will use the SSN, date of birth, and the first two letters of an applicant's last name to match with the Federal Student Aid Application File.

The DoD DMDC and DEERS systems contain the names, SSNs, dates of birth, and other identifying information about dependents of service personnel who died as a result of performing their military service in Iraq or Afghanistan after September 11, 2001. This system of records also contains the date the servicemember died.

5. Effective Dates of the Matching Program

The matching program will be effective on the last of the following dates: (1) August 1, 2012; (2) 30 days after notice of the matching program has been published in the Federal Register; or (3) 40 days after a report concerning the matching program has been transmitted to OMB and transmitted to the Congress along with a copy of this agreement, unless OMB waives 10 days of this 40-day period for compelling reasons shown, in which case, 30 days after transmission of the report to OMB and Congress.

The matching program will continue for 18 months after the effective date of the computer matching agreement and may be extended for an additional 12 months thereafter, if the conditions specified in 5 U.S.C. 552a(o)(2)(D) have been met.

6. Address for Receipt of Public Comments or Inquiries

Leroy Everett, Management and Program Analyst, U.S. Department of Education, Federal Student Aid, Union Center Plaza, Room 64A5, 830 First Street NE., Washington, DC 20202-5454. Telephone: (202) 377-3265. If you use a telecommunications device for the deaf (TDD) or text telephone (TTY), call the Federal Relay Service (FRS), toll free, at 1-800-877-8339.

Individuals with disabilities can obtain this document in an accessible format (e.g., braille, large print, audiotape, or compact disc) by contacting the contact person listed in the preceding paragraph.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 5 U.S.C. 552a; 21 U.S.C. 862(a)(1).

Dated: June 25, 2012.
James W. Runcie,
Chief Operating Officer, Federal Student Aid.

[FR Doc. 2012-15884 Filed 6-27-12; 8:45 am]

BILLING CODE 4000-01-P